DEPARTMENT OF HEALTH AND HUMAN SERVICES

Centers for Disease Control and Prevention

[60Day-25-25-0004; Docket No. CDC-2025-0007]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed information collection, as required by the Paperwork Reduction Act of 1995. This notice invites comment on a proposed information collection project titled Traveler Risk Assessment and Management Activities during Disease Outbreaks. The purpose of this Generic information collection request (ICR) is to aid in CDC's responsibility to ensure the successful implementation of traveler management in an efficient and timely manner during disease outbreaks.

DATES: CDC must receive written comments on or before August 15, 2025.

ADDRESSES: You may submit comments, identified by Docket No. CDC-2025-0007 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Traveler Risk Assessment and Management Activities during Disease Outbreaks—New—National Center for Emerging and Zoonotic Diseases (NCEZID), Centers for Disease Control and Prevention (CDC).

Background and Brief Description

CDC intends use this Generic information collection request (ICR) in the event of a disease outbreak overseas that would necessitate the public health assessment and/or monitoring of travelers arriving in the U.S. Section 361 of the Public Health Service (PHS) Act (42 U.S.C. 264) authorizes the Secretary of Health and Human Services (HHS) to make and enforce regulations necessary to prevent the introduction, transmission, or spread of communicable diseases from foreign countries into and within the United States. Under its delegated authority, DGMH works to fulfill this responsibility through a variety of activities (including the operation of port health stations) at U.S. ports of entry and administration of foreign quarantine regulations; 42 Code of Federal Regulation part 71, specifically 42 CFR 71.20 Public health prevention measures to detect communicable disease.

Additionally, on February 21, 2020, CDC issued an interim final rule (IFR) to amend its Foreign Quarantine regulations, to enable CDC to require airlines to collect, and provide to CDC, certain data regarding passengers and crew arriving from foreign countries for the purposes of health education, treatment, prophylaxis, or other appropriate public health interventions, including travel restrictions. CDC's authority for collecting such data is contained in 42 CFR 71.4.

Under this IFR, airlines must transmit these data to CDC within 24 hours of an order. The order Requirement for Airlines and Operators to Collect and Transmit Designated Information for Passengers and Crew Arriving Into the United States; Requirement for Passengers to Provide Designated Information requiring the collection of this information was issued on October 25, 2021 and went into effect on November 8, 2021. Under this Order, airlines may transmit the required information using existing data-sharing infrastructure in place between the airlines and the U.S. Department of Homeland Security (DHS) or they must retain the information for 30 days and transmit it to CDC within 24 hours upon request. This information collection for contact information is already approved under OMB Control 0920-1354.

During a disease outbreak, CDC relies on its federal partners in the DHS to assist in the risk assessment and entry screening process because of their presence at the ports of entry. As needed, DHS will refer travelers into the public health entry screening and risk assessment process. The public health entry screening typically consists of an initial health and exposure questionnaire to determine if a more in-depth public health risk assessment of a traveler is necessary. CDC develops the tools and training to facilitate this public health entry screening and works to ensure that any individual who is identified by DHS as being from the outbreak area is screened and further evaluated if compatible symptoms or potential exposures are identified. For those who are symptomatic or potentially exposed, additional public health measures may involve transport to a healthcare facility for medical evaluation if a traveler is identified as being ill; quarantine for those with high-risk exposures but with no evidence of illness or infection; and/or communication with CDC or health departments to facilitate timely detection and management if potentially exposed travelers develop symptoms after arrival.

This information collection concerns CDC's statutory and regulatory authority related to conducting public health screening of travelers upon arrival to the United States and assessing individual travelers for public health risk following a report of illness from a conveyance or other notification at a U.S. port of entry. As part of this responsibility, DGMH has implemented traveler management activities that collect contact information and share the information with state and local governments so that the travelers can be monitored for signs or symptoms of disease, and isolated and medically examined if needed. CDC anticipates the future need for these activities to prevent the transmission or spread of communicable diseases into the United States.

Disease outbreaks do not occur at regular intervals, which makes it difficult to estimate how often information collection will be necessary. The purpose of this Generic ICR is to aid in CDC's responsibility to ensure the successful implementation of traveler management in an efficient and timely manner. DGMH intends use this Generic ICR in the event of a disease outbreak that would necessitate the public health assessment and/or monitoring of travelers arriving in the U.S. Although it is possible to anticipate some broad categories of information that would need to be collected, (e.g., potential exposures, symptoms, contact information, etc.), each response is unique and requires flexibility in terms of the specific information collection tool in each instance. Data collection instruments and methods must be rapidly created and implemented to direct appropriate public health action. Often specific questions will change, or new questions will evolve with each disease outbreak.

DGMH anticipates that this Generic ICR would encompass data collection related to:

• Entry screening of travelers and (if indicated) public health risk assessment conducted either in person or virtually;

• Post-arrival management of travelers as specified in CDC recommendations for travelers arriving from outbreak areas;

• Health department of jurisdiction follow up of indicated travelers;

• Surveys of travelers to determine most efficient channels for reaching travelers and refine public health messaging for travelers coming from the outbreak area;

• Evaluation of entry screening, post-arrival management, and health department follow-up;

CDC requests OMB approval for an estimated 10,588 annual burden hours. There are no costs to respondents other than their time to participate.

Estimated Annualized Burden Hours
Type of respondents | Form name | Number of respondents | Number of responses per respondent | Average burden per response (in hours) | Total burden (in hours)
Traveler | CDC Initial Screening | 54,750 | 1 | 5/60 | 4,563
Traveler | POE Public Health Risk Assessment Form | 5,475 | 1 | 20/60 | 1,825
Traveler | Symptom Monitoring Daily Group Symptomatic Travelers | 548 | 21 | 1/60 | 192
Traveler | Symptom Monitoring Daily Group—Web Survey for Symptomatic Travelers | 548 | 21 | 5/60 | 958
Traveler | Symptom Monitoring Weekly Group | 4,928 | 3 | 1/60 | 246
Traveler | Symptom Monitoring Weekly Group | 4,928 | 3 | 5/60 | 1,232
Traveler | Response Survey of Travelers | 5,475 | 1 | 10/60 | 913
State/Local Health Department | Jurisdiction Traveler Monitoring | 70 | 104 | 5/60 | 607
State/Local Health Department | Jurisdiction Final Survey | 70 | 1 | 20/60 | 23
Total |  |  |  |  | 10,558

Jeffrey M. Zirger,
Lead, Information Collection Review Office, Office of Public Health Ethics and Regulations, Office of Science, Centers for Disease Control and Prevention.

[FR Doc. 2025-10900 Filed 6-13-25; 8:45 am]

BILLING CODE 4163-18-P